DEPARTMENT OF HOMELAND SECURITY

Coast Guard

33 CFR Part 117

[CGD08-05-018]

RIN 1625-AA09

Drawbridge Operation Regulations; Upper Mississippi River, Fort Madison, IA

AGENCY: Coast Guard, DHS.

ACTION: Notice of temporary deviation from regulations.

SUMMARY: The Commander, Eighth Coast Guard District has issued a temporary deviation from the regulation governing the operations of the Fort Madison Drawbridge, mile 383.9, Fort Madison, Iowa across the Upper Mississippi River. This deviation allows the bridge to remain closed to navigation for 8-hour and 4-hour time periods from July 16 to July 18, 2005, and from July 23 to July 25, 2005. The deviation is necessary to allow time for making repairs of critical structural components essential to the continued safe operation of the drawbridge.

DATES: This temporary deviation is effective from 6 a.m., July 16, 2005 to 6 a.m., July 25, 2005.

ADDRESSES: Materials referred to in this document are available for inspection or copying at Room 2.107F in the Robert A. Young Federal Building, 1222 Spruce Street, St. Louis, MO 63103-2832, between 8 a.m. and 4 p.m., Monday through Friday, except Federal holidays. The Bridge Administration Branch maintains the public docket for this temporary deviation.

FOR FUTHER INFORMATION CONTACT: Roger K. Wiebusch, Bridge Administrator, (314) 539-3900, extension 2378.

SUPPLEMENTARY INFORMATION: The Burlington Northern and Santa Fe Railway Company requested a temporary deviation to allow time to conduct repairs to the Fort Madison Drawbridge, mile 383.9 at Fort Madison, Iowa across the Upper Mississippi River. The Fort Madison Drawbridge currently operates in accordance with 33 CFR 117.5 which requires the drawbridge to open promptly and fully for passage of vessels when a request to open is given in accordance with 33 CFR 117, subpart A. This deviation will be enforced from 6 a.m., July 16, 2005 to 6 a.m., July 18, 2005 and from 6 a.m., July 23, 2005 to 6 a.m., July 25, 2005. During this enforcement period the bridge will remain closed to navigation for 8 hours from 6 a.m. to 2 p.m. July 16 and July 23, 2005. At 2 p.m. the bridge will open for vessels, and will remain open until all waiting and arriving vessels have transited the bridge. Otherwise, during the enforcement period the drawspan will be closed to navigation for 4-hour periods after which time it will open for navigation if vessels are present. The bridge will continue to operate with an opening after each 4-hour closure until regular operations are resumed at 6 a.m., July 18 and July 25, 2005, respectively. There are no alternate routes for vessels transiting through mile 383.9 on the Upper Mississippi River.

The Fort Madison Drawbridge provides a vertical clearance of 13.1 feet above normal pool. Navigation on the waterway consists primarily of commercial tows and recreational watercraft. This deviation has been coordinated with waterway users. No objections were received.

In accordance with 33 CFR 117.35(c), this work will be performed with all due speed in order to return the bridge to normal operations as soon as possible. This deviation from the operating regulations is authorized under 33 CFR 117.35.

Dated: March 29, 2005.
Roger K. Wiebusch,
Bridge Administrator.

[FR Doc. 05-7208 Filed 4-8-05; 8:45 am]

BILLING CODE 4910-15-P